DEPARTMENT OF THE INTERIOR

Bureau of Land Management

[LLAZP02000.12X.L54100000.FR0000. LVCLA12A5180.241A; AZA-35886]

Notice of Realty Action: Application for Conveyance of Federally Owned Mineral Interests in Pima County, AZ

AGENCY: Bureau of Land Management, Interior.

ACTION: Notice of realty action.

SUMMARY: The Bureau of Land Management (BLM) is processing an application under the Federal Land Policy and Management Act (FLPMA) of October 21, 1976, to convey the federally owned mineral interests in 591.21 acres of land located in Pima County, Arizona, to the surface owner, Waste Management of Arizona, Inc. Publication of this notice temporarily segregates the federally owned mineral interests in the land covered by the application from all forms of appropriation under the public land laws, including the mining laws, for up to 2 years while the BLM processes the application.

DATES: Submit written comments to the BLM on or before September 17, 2018.

ADDRESSES: Submit written comments to the BLM Phoenix District Office, Attn: Benedict Parsons, Realty Specialist, 21605 North 7th Ave., Phoenix, AZ 85027.

FOR FURTHER INFORMATION CONTACT: Benedict Parsons, Realty Specialist, by telephone: 623-580-5637, or by email at bparson@blm.gov. Persons who use a telecommunications device for the deaf (TDD) may call the Federal Relay Service (FRS) at 1-800-877-8339 to contact the above individual during normal business hours. The FRS service is available 24 hours a day, 7 days a week, to leave a message or question for the above individual. You will receive a reply during normal business hours.

SUPPLEMENTARY INFORMATION: The BLM is processing an application under section 209 of FLPMA, 43 U.S.C. 1719(b), to convey the federally owned mineral interests that aggregate 591.21 acres, situated in Pima County, Arizona. The location of the federally owned mineral interest for conveyance is identical in location as the privately owned surface interest of the applicant, and is described as follows:

Gila and Salt River Meridian, Arizona

T. 12 S, R. 10 E, Section 1

Lots 1-3, S½NE¼, S½NW¼, SW¼, SE¼

The areas described aggregate 591.21 acres.

Section 209(b) of FLPMA authorizes the conveyance of the federally owned mineral interests in land to the current or prospective surface owner, upon payment of administrative costs and the fair market value of the interest being conveyed. The objective of Section 209 is to allow consolidation of the surface and mineral interests when either one of the following conditions exist: (1) There are no known mineral values in the land; or (2) Where continued Federal ownership of the mineral interests interferes with or precludes appropriate non-mineral development and such development is a more beneficial use of the land than mineral development. The applicant has deposited sufficient funding to cover administrative costs, but not limited to, the cost for the mineral potential report.

Subject to valid existing rights, on August 1, 2018 the federally owned mineral interests in the land described above are hereby segregated from all forms of appropriation under the public land laws, including the mining laws. The segregative effect shall terminate upon: (1) Issuance of a patent or other document of conveyance as to such mineral interests; (2) Final rejection of the application; or (3) August 3, 2020, whichever occurs first.

Before including your address, phone number, email address, or other personal identifying information in your comment, you should be aware that your entire comment, including your personal identifying information, may be made available to the public at any time. While you can ask in your comment to withhold your personal identifying information from public review, we cannot guarantee that we will be able to do so.

Authority: 43 CFR 2720.1-1(b)

Melissa Warren,
Tucson Field Manager.

[FR Doc. 2018-16385 Filed 7-31-18; 8:45 am]

BILLING CODE 4310-32-P